DEPARTMENT OF JUSTICE

Justice Management Division

Agency Information Collection Activities: Proposed Collection; Comment Request; Certification of Identity

ACTION: Reinstatement, with change, of a previously approved collection of which approval has expired.

Office of Management and Budget approval is being sought for the information collection listed below. This collection was previously published in the Federal Register on October 3, 2000, (Vol. 65, page 59015), allowing for a 60-day public comment period.

The purpose of this notice is to allow an additional 30 days for public comments. Comments are encouraged and will be accepted until February 5, 2001. This process is conducted in accordance with 5 CFR 3120.10.

Written comments and/or suggestions regarding the item contained in this notice, especially regarding the estimated public burden and associated response time, should be directed to the Office of Management and Budget, Office of Information and Regulatory Affairs, Attention: Department of Justice Desk Officer, Washington, DC 20530.

Written comments and suggestions from the public and affected agencies concerning the proposed collection of information should address one or more of the following four points.

(1) Evaluate whether the proposed collection of information is necessary for the proposed performance of the functions of the Agency, including whether the information will have practical utility.

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Certification of Identity.

(3) Agency form number, if any, and the applicable component of the Department of Justice sponsoring the collection: Form DOJ-361. Facilities and Administrative Services Staff, Justice Management Division, U.S. Department of Justice.

(4) Affected public who will be asked or required to responsed, as well as a brief abstract: Primary: Individuals. The information collection will be used by the Department to identify individuals requesting certain records under the Privacy Act. Without this form an individual cannot obtain the information requested.

(5) An estimate of the total number of respondents and the amount of time estimated for an average respondent to respond: 153,333 respondents at 15 minutes per response.

(6) An estimate of the total public burden (in hours) associated with the collection: 38,333 annual burden hours.

If additional information is required contact: Ms. Brenda E. Dyer, Deputy Clearance Officer, United States Department of Justice, Information Management and Security Staff, Justice Management Division, Suite 1220, National Place Building, 1331 Pennsylvania Avenue, NW., Washington, DC 20530.

Dated: December 20, 2000.
Brenda E. Dyer,
Department Deputy Clearance Officer, United States Department of Justice.

[FR Doc. 01-230 Filed 1-3-01; 8:45 am]

BILLING CODE 4410-26-M